DEPARTMENT OF COMMERCE

Census Bureau

Census Bureau National Advisory Committee on Racial, Ethnic, and Other Populations

AGENCY: Census Bureau, U.S. Department of Commerce.

ACTION: Renewal of the Census Bureau National Advisory Committee on Racial, Ethnic, and Other Populations.

SUMMARY: The Census Bureau is publishing this notice to announce the renewal of the Census Bureau National Advisory Committee on Racial, Ethnic, and Other Populations (NAC or Committee). The purpose of the Committee is to provide advice to the Director of the Census Bureau on the full range of economic, housing, demographic, socioeconomic, linguistic, technological, methodological, geographic, behavioral, and operational variables affecting the cost, accuracy, and implementation of Census Bureau programs and surveys, including the decennial census. This includes the identification of new strategies for improved census operations and survey and data collection methods, including cost efficient ways to increase census participation. Additional information concerning the Committee can be found by visiting the Committee's website at: https://www.census.gov/about/cac/nac.html.

FOR FURTHER INFORMATION CONTACT: Shana J. Banks, Advisory Committee Branch Chief, Office of Program, Performance and Stakeholder Integration (PPSI), shana.j.banks@census.gov, Department of Commerce, Census Bureau, telephone 301-763-3815. For TTY callers, please use the Federal Relay Service at 1-800-877-8339.

SUPPLEMENTARY INFORMATION:

Background

In accordance with the Federal Advisory Committee Act (FACA), the Secretary of the Department of Commerce (Secretary) renews the NAC. The Secretary has determined that the work of the Committee is in the public interest and relevant to the duties of the Census Bureau. The NAC will operate under the provisions of FACA and will report to the Director of the Census Bureau. The Census Bureau National Advisory Committee on Racial, Ethnic, and Other Populations will advise the Director of the Census Bureau on the full range of Census Bureau programs and activities.

Objectives and Duties

1. The Committee will provide advice and recommendations to the Director of the Census Bureau (Director) on the full range of economic, housing, demographic, socioeconomic, linguistic, technological, methodological, geographic, behavioral, and operational variables affecting the cost, accuracy, and implementation of Census Bureau programs and surveys, including the decennial census.

2. The Committee will provide advice and recommendations on the identification of new strategies for improved census operations, and survey and data collection methods, including cost efficient ways to increase census participation.

3. The Committee will advise on census policies, research and methodology, tests, operations, communications/messaging, and other activities to ascertain needs and best practices to improve Census Bureau programs and surveys.

4. The Committee will provide formal recommendations on working papers, reports, and other documents related to the design and implementation of census programs and surveys.

5. The Committee will provide expertise on the full spectrum of Census Bureau surveys and program and will examine such areas as hidden households, language barriers, students and youth, aging populations, American Indian and Alaska Native tribal consideration, new immigrant populations, populations affected by natural disasters, highly mobile and migrant populations, disabled populations, complex households, poverty, race/ethnicity distribution, privacy and confidentiality, rural populations and businesses, individuals and households with limited access to information and communication technologies, the dynamic nature of new businesses, minority ownership of businesses, as well as other concerns impacting Census Bureau survey design and implemtation.

6. The Committee functions solely as an advisory body under the FACA.

Membership

1. The Committee consists of up to 32 members who will be appointed by and serve at the discretion of the Director.

2. The Committee aims to have a balanced representation among its members, considering such factors as geography, technical expertise, community involvement, and knowledge of census programs and/or activities.

3. The Committee aims to include members from diverse backgrounds, including state, local and tribal governments; academia; research organizations; national and community-based organizations; and the private sector; and, where possible the Census Bureau will also consider the ethnic, racial, and gender diversity and various abilities of the United States population. Individuals will be selected based on their expertise in specific areas as needed by the Census Bureau.

4. Members will serve as Special Government Employees (SGEs) as defined in title 18 of the U.S. Code, section 202. SGEs are appointed for their individual expertise and experience and are subject to conflict of interest laws and regulations, including (but not limited to) the obligation to annually file a New Entrant Confidential Financial Disclosure Report (OGE Form 450) and complete ethics training. Members will be individually advised of the capacity in which they will serve through their appointment letters.

5. Membership is open to persons who are not seated on other Census Bureau stakeholder entities (i.e., State Data Centers, Census Information Centers, Federal State Cooperative on Populations Estimates Program, other Census advisory committees, etc.). No employee of the federal government can serve as a member of the Committee.

6. Members generally will serve an initial three-year term. All members will be evaluated at the conclusion of their initial term with the prospect of renewal, pending Committee needs. Active attendance and participation in meetings and activities (e.g., conference calls and assignments) will be factors considered when determining term renewal or membership continuance. Members may be appointed for a second, three-year term at the discretion of the Director. An individual appointed to any of the other Census Bureau advisory committees may not be reappointed to or serve on the NAC until at least three years after their term on the other committee has concluded.

7. Members will be selected on a standardized basis, in accordance with applicable Department of Commerce guidance.

Miscellaneous

1. Members of the Committee serve without compensation but will, upon request, be allowed travel and per diem expenses as authorized by 5 U.S.C. 5703.

2. The Census Bureau will convene approximately two NAC meetings per year, budget and environmental conditions permitting. Committee meetings are open to the public in accordance with FACA.

3. Members must be able to actively participate in the tasks of the Committee, including, but not limited to, regular meeting attendance, Committee meeting discussant responsibilities, review of materials, as well as participation in conference calls, webinars, working groups, and/or special committee activities.

4. The Department of Commerce is committed to equal opportunity in its advisory committee and seeks diverse Committee membership.

Robert L. Santos, Director, Census Bureau, approved the publication of this notice in the Federal Register.

Dated: April 10, 2024.
Shannon Wink,
Program Analyst, Policy Coordination Office, U.S. Census Bureau.

[FR Doc. 2024-07883 Filed 4-12-24; 8:45 am]

BILLING CODE 3510-07-P